ENVIRONMENTAL PROTECTION AGENCY

[FRL-7880-3]

Proposed Administrative Settlement Under the Comprehensive Environmental Response, Compensation, and Liability Act

AGENCY: Environmental Protection Agency.

ACTION: Request for public comment.

SUMMARY: The Environmental Protection Agency is proposing to enter into an “Administrative Order On Consent For Past Cost Reimbursement/Covenant Not to Sue and Removal” pursuant to Sections 106(a), 107 and 122 of the Comprehensive Environmental Response, Compensation, and Liability Act of 1980, as amended (“CERCLA”), 42 U.S.C. 9606(a), 9607 and 9622. This proposed administrative settlement is intended to: (1) Resolve the liability of LC Associates, LP. (“Settling Party”) under CERCLA for EPA's past response costs incurred at the Andela and River Bend Superfund Sites, Warwick Township, Bucks County, Pennsylvania (“the Sites”); and (2) further directs Settling Party to cleanup any future discovered PCB contamination on the Sites, if necessary, pursuant to the self-effectuating “Removal Order” component of this proposed settlement.

DATES: Comments must be provided within thirty (30) days from publication.

ADDRESSES: Comments should be addressed to Lydia Guy, Regional Hearing Clerk, U.S. Environmental Protection Agency, Region III, 1650 Arch Street, Philadelphia, PA 19103-2029, and should refer to the Andela and River Bend Superfund Sites, Warwick Township, Bucks County, Pennsylvania.

FOR FURTHER INFORMATION CONTACT: Benjamin M. Cohan (3RC41), 215/814-2618, U.S. Environmental Protection Agency, 1650 Arch Street, Philadelphia, Pennsylvania 19103-2029.

SUPPLEMENTARY INFORMATION: Notice of administrative settlement: In accordance with Section 122(i)(1) of CERCLA, 42 U.S.C. 9622(i)(1), notice is hereby given of a proposed administrative settlement concerning the Andela and River Bend Superfund Sites, Warwick Township, Bucks County, Pennsylvania. The administrative settlement is subject to review by the public pursuant to this Notice. The proposed settlement has been reviewed and approved by the United States Department of Justice in accordance with Section 122(h) of CERCLA, 42 U.S.C. 9622(h).

The Settling Party has agreed to pay $135,000.00 to the Hazardous Substances Superfund Fund subject to the contingency that EPA may elect not to complete the settlement if comments received from the public during this comment period disclose facts or considerations which indicate the proposed settlement is inappropriate, improper, or inadequate. This amount to be paid by the Settling Party was based upon EPA's determination of the fair share of liability of the Settling Party relating to the Sites. Monies collected from the Settling Party will be remitted to EPA's Hazardous Substances Superfund Fund for use in future clean-ups which may be undertaken under CERCLA.

EPA is entering into this agreement under the authority of Sections 106(a), 107 and 122 of CERCLA, 42 U.S.C. 9606(a), 9607 and 9622. Specifically, Section 122(h) of CERCLA authorizes cost recovery settlements with potentially responsible parties to allow them to resolve their liabilities at Superfund Sites without incurring substantial transaction costs. Under this authority, EPA proposes to settle with Settling Party in connection with the Sites, based upon a determination that Settling Party is responsible as an “owner or operator of a vessel or a facility” (the Andela and River Bend Sites) within the meaning of Section 107(a)(1) of CERCLA, 42 U.S.C. 9607(a)(1) . As part of this administrative settlement, and for so long as Settling Party is in compliance with the terms of the agreement, including but not limited to cleanup of future discovered PCB contamination as specified in Section 7 of the settlement agreement, EPA will provide to the Settling Party a covenant not to sue or take administrative action against the Settling Party for reimbursement of past response costs pursuant to Section 107 of CERCLA, 42 U.S.C. 9607, with regard to the Sites.

The Environmental Protection Agency will receive written comments relating to this settlement for thirty (30) days from the date of publication of this Notice. The Agency will consider all comments received and may modify or withdraw its consent to the settlement if comments received disclose facts or considerations which indicate that the settlement is inappropriate, improper, or inadequate. A copy of the proposed Administrative Order on Consent can be obtained from Benjamin M. Cohan, U.S. Environmental Protection Agency, Region III, Office of Regional Counsel (3RC41), 1650 Arch Street, Philadelphia, Pennsylvania 19103-2029, or by contacting Benjamin M. Cohan at (215) 814-2618.

Dated: February 11, 2005.
Donald S. Welsh,
Regional Administrator, U.S. Environmental Protection Agency, Region III.

[FR Doc. 05-4263 Filed 3-3-05; 8:45 am]

BILLING CODE 6560-50-P